DEPARTMENT OF ENERGY

Federal Energy Regulatory Commission

Combined Notice of Filings

Take notice that the Commission has received the following Natural Gas Pipeline Rate and Refund Report filings:

Filings Instituting Proceedings

Docket Numbers: RP14-216-000.

Applicants: Ruby Pipeline, L.L.C.

Description: FL&U Effective 1_1_14 to be effective 1/1/2014.

Filed Date: 11/26/13.

Accession Number: 20131126-5043.

Comments Due: 5 p.m. ET 12/9/13.

Docket Numbers: RP14-217-000.

Applicants: Colorado Interstate Gas Company, L.L.C.

Description: Colorado Interstate Gas Company, L.L.C. submits tariff filing per 154.403(d)(2): FL&U to be effective January 1, 2014 to be effective 1/1/2014.

Filed Date: 11/26/13.

Accession Number: 20131126-5064.

Comments Due: 5 p.m. ET 12/9/13.

Docket Numbers: RP14-218-000.

Applicants: High Island Offshore System, L.L.C.

Description: HIOS Rate Case RP14-XXX to be effective 1/1/2014.

Filed Date: 11/26/13.

Accession Number: 20131126-5108.

Comments Due: 5 p.m. ET 12/9/13.

Docket Numbers: RP14-219-000.

Applicants: Natural Gas Pipeline Company of America.

Description: Negotiated Rate Filing—NJR Energy LPS-RO 143915 to be effective 12/1/2013.

Filed Date: 11/26/13.

Accession Number: 20131126-5109.

Comments Due: 5 p.m. ET 12/9/13.

Docket Numbers: RP14-220-000.

Applicants: Iroquois Gas Transmission System, L.P.

Description: 11/26/13 Negotiated Rates—Trafigura AG (HUB) 7445-89 to be effective 11/27/2013.

Filed Date: 11/26/13.

Accession Number: 20131126-5126.

Comments Due: 5 p.m. ET 12/9/13.

Docket Numbers: RP14-221-000.

Applicants: El Paso Natural Gas Company, L.L.C.

Description: Annual Recomputation of FL&U Retention Percentages to be effective 1/1/2014.

Filed Date: 11/26/13.

Accession Number: 20131126-5133.

Comments Due: 5 p.m. ET 12/9/13.

Docket Numbers: RP14-222-000.

Applicants: Honeoye Storage Corporation.

Description: November 2013 to be effective 1/1/2014.

Filed Date: 11/26/13.

Accession Number: 20131126-5159.

Comments Due: 5 p.m. ET 12/9/13.

Docket Numbers: RP14-223-000.

Applicants: Wyoming Interstate Company, L.L.C.

Description: Non-Conforming Agreements Update Filing to be effective 1/1/2014.

Filed Date: 11/26/13.

Accession Number: 20131126-5161.

Comments Due: 5 p.m. ET 12/9/13.

Docket Numbers: RP14-224-000.

Applicants: WTG Hugoton, LP.

Description: WTG Hugoton, LP 2013 Annual Charge Adjustment to be effective 10/1/2013.

Filed Date: 11/26/13.

Accession Number: 20131127-5000.

Comments Due: 5 p.m. ET 12/9/13.

Docket Numbers: RP14-225-000.

Applicants: Questar Pipeline Company.

Description: Questar Pipeline Company submits tariff filing per 154.203: Non-Conforming Agreements Update to be effective 2/1/2014.

Filed Date: 11/27/13.

Accession Number: 20131127-5049.

Comments Due: 5 p.m. ET 12/9/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 27, 2013.
Nathaniel J. Davis, Sr.,
Deputy Secretary.

[FR Doc. 2013-29314 Filed 12-6-13; 8:45 am]

BILLING CODE 6717-01-P